COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes services from the Procurement List previously furnished by such agencies.

DATES: Date added to and deleted from the Procurement List: August 18, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 5/31/2019, 6/7/2019 and 6/14/2019, the Committee for Purchase From People Who Are Blind or Severely Disabled published notice of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSNs—Product Names:

7920-00-NIB-0717—Squeegee, Floor, 24″

7920-00-NIB-0718—Squeegee, Floor, 24″, With Handle

7920-00-NIB-0719—Deck Brush, Rough Surface, 10″

7920-00-NIB-0720—Deck Brush, Rough Surface, 10″, With Handle

7920-00-NIB-0725—Handle, Steel, with Connector

Mandatory Source of Supply: Industries for the Blind and Visually Impaired, Inc., West Allis, WI

Mandatory for: Total Government Requirement

Contracting Activity: FEDERAL ACQUISITION SERVICE, GSA/FSS GREATER SOUTHWEST ACQUISITI

Services

Service Type: Base Supply Center

Mandatory for: U.S. Navy, Naval Research Laboratory, Washington, DC

Mandatory Source of Supply: Blind Industries & Services of Maryland, Baltimore, MD

Contracting Activity: DEPT OF THE NAVY, NAVAL RESEARCH LABORATORY

Service Type: Meal provision

Mandatory for: U.S. Customs and Border Protection, Area Port of Calexico, Calexico, CA

Mandatory Source of Supply: ARC-Imperial Valley, El Centro, CA

Contracting Activity: U.S. CUSTOMS AND BORDER PROTECTION, BORDER ENFORCEMENT CTR DIV

Deletions

On 6/14/2019, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Publications Distribution

Mandatory for: Beale Air Force Base, CA

Contracting Activity: DEPT OF THE AIR FORCE, FA7014 AFDW PK

Service Type: Janitorial/Grounds Maintenance

Mandatory for: Border Patrol Station, Pecos, TX

Mandatory for: Border Patrol Station, Van Horn, TX

Mandatory Source of Supply: Professional Contract Services, Inc., Austin, TX

Contracting Activity: U.S. CUSTOMS AND BORDER PROTECTION, BORDER ENFORCEMENT CTR DIV

Service Type: Janitorial/Custodial

Mandatory for: Veterans Affairs Connecticut Healthcare System: Newington Campus, Newington, CT

Mandatory Source of Supply: CW Resources, Inc., New Britain, CT

Contracting Activity: VETERANS AFFAIRS, DEPARTMENT OF, NAC

Service Type: Secure Document Destruction

Mandatory for: Blanchfield Army Community Hospital, Fort Campbell, KY

Mandatory Source of Supply: Goodwill Industries of Kentucky, Inc., Louisville, KY

Contracting Activity: DEPT OF THE ARMY, W40M SOUTH RGNL CONTR OFC EAST

Service Type: Janitorial Service

Mandatory for: USDA, Forest Service, Dubois Ranger District Office, Caribou-Targhee National Forest, Dubois, ID

Mandatory Source of Supply: Development Workshop, Inc., Idaho Falls, ID

Contracting Activity: FOREST SERVICE, CARIBOU-TARGHEE NATIONAL FOREST

Patricia Briscoe,
Deputy Director, Business Operations (Pricing and Information Management).

[FR Doc. 2019-15390 Filed 7-18-19; 8:45 am]

BILLING CODE 6353-01-P